NUCLEAR REGULATORY COMMISSION

10 CFR Part 26

RIN 3150-AF12

Fitness for Duty Programs

Correction

In rule document E8-4998 beginning on page 16966, in the issue of Monday, March 31, 2008, make the following correction:

PART 26-[CORRECTED]

On page 17177, the table of contents for Subparts N and O are corrected to read as follows:

* * * * *

Subpart N—Recordkeeping and Reporting Requirements
26.709 Applicability.
26.711 General provisions.
26.713 Recordkeeping requirements for licensees and other entities.
26.715 Recordkeeping requirements for collection sites, licensee testing facilities, and laboratories certified by the Department of Health and Human Services.
26.717 Fitness-for-duty program performance data.
26.719 Reporting requirements.
Subpart O—Inspections, Violations, and Penalties
26.821 Inspections.
26.823 Violations.
26.825 Criminal penalties.

* * * * *

[FR Doc. Z8-4998 Filed 4-21-08; 8:45 am]

BILLING CODE 1505-01-D

DEPARTMENT OF THE TREASURY

Office of the Comptroller of the Currency

12 CFR Part 3

[Docket No. OCC-2007-0018]

RIN 1557-AC91

FEDERAL RESERVE SYSTEM

12 CFR Parts 208 and 225

[Regulations H and Y; Docket No. R-1261]

FEDERAL DEPOSIT INSURANCE CORPORATION

12 CFR Part 325

RIN 3064-AC73

DEPARTMENT OF THE TREASURY

Office of Thrift Supervision

12 CFR Parts 559, 560, 563, and 567

[Docket No. OTS 2007-0021]

RIN 1550-AB56

Risk-Based Capital Standards: Advanced Capital Adequacy Framework-Basel II

Correction

In rule document C7-5729 beginning on page 69288 in the issue of Friday, December 7, 2007, make the following correction:

1. On page 69396, in the third column, under the heading Text of Common Appendix (All Agencies), in the first paragraph, in the first line, “agencies”” should read “agencies’”.

2. On page 69410, in the third column, in the first full paragraph, in the second line from the bottom,“agencies”” should read “agencies’”.

3. On page 69422, in the first column, in the second line from the top, “NRSROs”” should read “NRSROs’”.

[FR Doc. C7-5729 Filed 4-21-08; 8:45 am]

BILLING CODE 1505-01-D